DEPARTMENT OF AGRICULTURE

Animal and Plant Health Inspection Service

9 CFR Parts 50, 51, 71, 76, 77, 78, 86, 93, and 161

[Docket No. APHIS-2011-0044]

RIN 0579-AD65

Brucellosis and Bovine Tuberculosis; Update of General Provisions

AGENCY: Animal and Plant Health Inspection Service, USDA.

ACTION: Proposed rule; extension of comment period.

SUMMARY: We are extending the comment period for our proposed rule that would consolidate the domestic regulations governing bovine tuberculosis and those governing brucellosis and revise the bovine tuberculosis- and brucellosis-related import requirements for cattle and bison to make these requirements clearer and assure that they more effectively mitigate the risk of introduction of these diseases into the United States. This action will allow interested persons additional time to prepare and submit comments.

DATES: The comment period for the proposed rule published on December 16, 2015 (80 FR 78462) is extended. We will consider all comments that we receive on or before May 16, 2016.

ADDRESSES: You may submit comments by either of the following methods:

• Federal eRulemaking Portal: Go to http://www.regulations.gov/#!docketDetail;D=APHIS-2011-0044.

• Postal Mail/Commercial Delivery: Send your comment to Docket No. APHIS-2011-0044, Regulatory Analysis and Development, PPD, APHIS, Station 3A-03.8, 4700 River Road Unit 118, Riverdale, MD 20737-1238.

Supporting documents and any comments we receive on this docket may be viewed at http://www.regulations.gov/#!docketDetail;D=APHIS-2011-0044 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Domestic regulatory provisions: Dr. C. William Hench, Senior Staff Veterinarian, Ruminant Health Programs, VS, APHIS, 2150 Centre Avenue, Building B-3E20, Fort Collins, CO 80526-8117; (970) 4947378. Import-related regulatory provisions: Dr. Langston Hull, Director, Cattle Health Center, VS, APHIS, 4700 River Road, Riverdale, MD 20737; (301) 851-3363.

SUPPLEMENTARY INFORMATION: On December 16, 2015, we published in the Federal Register (80 FR 78462-78520, Docket No. APHIS-2011-0044) a proposal to consolidate the domestic regulations governing bovine tuberculosis and those governing brucellosis, as well as to revise the bovine tuberculosis- and brucellosis-related import requirements for cattle and bison to make these requirements clearer and assure that they more effectively mitigate the risk of introduction of these diseases into the United States.

Comments on the proposed rule were required to be received on or before March 15, 2016. We are extending the comment period on Docket No. APHIS-2011-0044 to May 16, 2016. This action will allow interested persons additional time to prepare and submit comments.

Authority: 7 U.S.C. 8301-8317; 7 CFR 2.22, 2.80, and 371.4.

Done in Washington, DC, this 7th day of March 2016.
Kevin Shea,
Administrator, Animal and Plant Health Inspection Service.

[FR Doc. 2016-05534 Filed 3-10-16; 8:45 am]

BILLING CODE 3410-34-P